DEPARTMENT OF JUSTICE

Notice of Lodging of Consent Decree Under the Clean Water Act

In accordance with Departmental policy, 28 CFR § 50.7, notice is hereby given that on March 2, 2005 a proposed Consent Decree in United States and the State of Nebraska v. City of McCook, Nebraska, Case No. 8:05CV93 was lodged with the United States District Court for the District of Nebraska.

In this action the United States sought civil penalties and injunctive relief arising from the City of McCook's failure to comply with Clean Water Act (CWA), the Safe Drinking Water Act (SDWA), and its National Pollution Discharge Elimination System permit issued under the CWA. Under the Consent Decree, the City will comply with the SDWA and its maximum contaminant levels (MCLs) for nitrates, uranium, and for arsenic when that MCL comes into effect in 2006 in its drinking water supply. It will agree to pay a civil penalty of $136,000, of which $131,000 will go to EPA and $5000 to the State. ($5000 is the maximum penalty the State can impose by statute). The City also agrees to comply with the CWA and the terms of its NPDES Permit and perform injunctive relief including, among other things, continuous monitoring and to pay a total civil penalty to EPA and the State of $89,000.

The Department of Justice will receive for a period of thirty (30) days from the date of this publication comments relating to the Consent Decree. Comments should be addressed to the Assistant Attorney General, Environment and Natural Resources Division, P.O. Box 7611, U.S. Department of Justice, Washington, DC 20044-7611, and should refer to United States and the State of Nebraska v. City of McCook, Nebraska, D.J. Ref. 90-5-1-1-08273.

The Consent Decree may be examined at the Office of the United States Attorney, District of Nebraska at 1620 Dodge Street, Suite 1400, Omaha, NE 68102 and at U.S. EPA Region 7, 901 N. 5th Street, Kansas City, Kansas 66101. During the comment period, the consent decree may be examined on the following Department of Justice Web site, http://www.usdoj.gov/enrd/open.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $11.00 (25 cents per page reproduction cost) payable to the U.S. Treasury.

Catherine R. McCabe,
Deputy Chief, Environmental Enforcement Section, Environment and Natural Resources Division.

[FR Doc. 05-5979 Filed 3-25-05; 8:45 am]

BILLING CODE 4410-15-M